DEPARTMENT OF JUSTICE

Notice of Settlement Agreement Under the Comprehensive Environmental Response, Compensation, and Liability Act

Under 28 CFR 50.7, notice is hereby given of a proposed settlement agreement, In the Matter of: Morning Star Mine Site, for the performance of a removal action and the reimbursement of response costs incurred by the Department of the Interior (“DOI”) under Sections 104, 107, and 122 of the Comprehensive Environmental Response, Compensation, and Liability Act (“CERCLA”).

The proposed settlement resolves CERCLA claims against respondent Vanderbilt Gold Corporation (“VGC”) and potential CERCLA claims against respondent Mineral, Metal & Mining Management Company (“4EM”) related to VGC's mining activities at the Morning Star Mine Site (“Site”), which is an inactive open mine pit located in the Mojave National Preserve, a unit of the National Park Service. DOI incurred response costs of approximately $1 million for a “time critical” removal action taken in response to the releases and threats of releases of hazardous substances at the Site. The proposed settlement requires respondents VGC and 4EM to: (1) Conduct a removal action at the Site, (2) reimburse DOI, over time, for approximately $1 million in past response costs, (3) pay DOI's future response costs, and (4) pay DOI $1 million, over time, for deposit into the DOI Natural Resource Damage Assessment and Restoration Fund to restore, replace, or acquire the equivalent of Park System Resources injured by VGC. In exchange, DOI agrees not to sue respondents for the work, past response costs, and future response costs.

The Department of Justice will receive for a period of thirty (30) days from the date of this publication comments relating to the proposed settlement. Comments should be addressed to the Assistant Attorney General, Environment and Natural Resources Division, P.O. Box 7611, U.S. Department of Justice, Washington, DC 20044-7611, with a copy to Robert Mullaney, U.S. Department of Justice, 301 Howard Street, Suite 1050, San Francisco, CA 94105, and should refer to In the Matter of: Morning Star Mine Site, D.J. Ref. #90-11-2-08222.

During the public comment period, the proposed settlement agreement may be examined on the following Department of Justice Web site: http://www.usdoj.,gov/enrd/open.html. A copy of the proposed settlement agreement may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547.

In requesting a copy from the Consent Decree Library, please enclose a check in the amount of $12.50 (25 cents per page reproduction cost) payable to the U.S. Treasury.

W. Benjamin Fisherow,
Deputy Chief, Environmental Enforcement Section, Environment and Natural Resources Division.

[FR Doc. 05-6844 Filed 4-5-05; 8:45 am]

BILLING CODE 4410-15-M